DEPARTMENT OF DEFENSE

Office of the Secretary

[Docket ID: DoD-2022-OS-0096]

Submission for OMB Review; Comment Request

AGENCY: Office of the Under Secretary of Defense for Personnel and Readiness, Department of Defense (DoD).

ACTION: 30-Day information collection notice.

SUMMARY: The DoD has submitted to the Office of Management and Budget (OMB) for clearance the following proposal for collection of information under the provisions of the Paperwork Reduction Act.

DATES: Consideration will be given to all comments received by January 26, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Application for the Review of Discharge or Dismissal from the Armed Forces of the United States; DD Form 293; OMB Control Number 0704-0004.

Type of Request: Extension.

Number of Respondents: 2,827.

Responses per Respondent: 1.

Annual Responses: 2,827.

Average Burden per Response: 30 minutes.

Annual Burden Hours: 1,413.5.

Needs and Uses: Under Title 10 U.S.C. 1553 and DoD Directive 1332.41, “Boards for the Correction of Military Records and Discharge Review Board (DRBs),” former service members who received an administrative discharge have the right to appeal the characterization or reason for separation provided they do so within 15 years from the date of separation. The DD Form 293, “Application for Review of Discharge or Separation from the Armed Forces of the United States,” is the form that allows former Service members to explain the reasons for the alleged error and designate legal counsel, and provides DRBs necessary information to process requests. This information collection is needed to provide Service members a method to present to their respective Military Department Discharge Review Boards their reason/justification for a discharge upgrade, as well as providing the Military Departments with the basic data needed to process the appeal. The primary purpose of this information is to identify the arguments of the respondents and justifications for requested relief and secure their Official Military Personnel Files from the National Records Center. In addition, the collection allows the respondent to explain the reasons for the alleged error or injustice, designate counsel of choice, select the method of hearing desired, and request a records review or personal hearing.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: December 20, 2022.
Aaron T. Siegel,
Alternate OSD Federal Register Liaison Officer, Department of Defense.

[FR Doc. 2022-28037 Filed 12-23-22; 8:45 am]

BILLING CODE 5001-06-P